DEPARTMENT OF STATE

[Public Notice: 12009]

Notice of a Department of State Sanctions Action

SUMMARY: The Secretary of State has imposed sanctions on one entity.

DATES: The Secretary of State's determination regarding the one entity, and imposition of sanctions on the entity identified in the SUPPLEMENTARY INFORMATION section were effective on May 8, 2022.

FOR FURTHER INFORMATION CONTACT: Jim Mullinax, Director, Office of Economic Sanctions Policy and Implementation, Bureau of Economic and Business Affairs, Department of State, Washington, DC 20520, tel.: (202) 647 7677, email: MullinaxJD@state.gov.

SUPPLEMENTARY INFORMATION: Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (i) to operate or have operated in the technology sector or the defense and related materiel sector of the Russian Federation economy, or any other sector of the Russian Federation economy as may be determined by the Secretary of the Treasury, in consultation with the Secretary of State. The Secretary of the Treasury, in consultation with the Secretary of State determined that Section 1(a)(i) of E.O. 14024 shall apply to the marine sector of the Russian Federation economy.

The Secretary of State has determined, pursuant to Section 1(a)(i) of E.O. 14024, that Obshchestvo S Ogranichennoi Otvetstvennostyu Fertoing operates or has operated in the marine sector of the Russian Federation economy.

Pursuant to E.O. 14024 this entity has been added to the Specially Designated Nationals and Blocked Persons List. All property and interests in property of this entity subject to U.S. jurisdiction is blocked.

Whitney Baird,
Principal Deputy Assistant Secretary, Bureau of Economic and Business Affairs, Department of State.

[FR Doc. 2023-06092 Filed 3-23-23; 8:45 am]

BILLING CODE 4710-AE-P